DEPARTMENT OF TRANSPORTATION

Federal Aviation Administration

14 CFR Part 39

[Docket No. FAA-2014-0568; Directorate Identifier 2014-NM-075-AD]

RIN 2120-AA64

Airworthiness Directives; ATR-GIE Avions de Transport Régional

AGENCY: Federal Aviation Administration (FAA), DOT.

ACTION: Notice of proposed rulemaking (NPRM).

SUMMARY: We propose to adopt a new airworthiness directive (AD) for certain ATR-GIE Avions de Transport Régional Model ATR42 and ATR72 airplanes. This proposed AD was prompted by reports of fuel quantity indication malfunctions caused by fuel probe failure. This proposed AD would require identifying the part number and serial number of the fuel probes and replacing if necessary. We are proposing this AD to prevent fuel probe failure, which could lead to undetected fuel starvation and consequent dual engine in-flight flame-out.

DATES: We must receive comments on this proposed AD by September 29, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0568; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2014-0568; Directorate Identifier 2014-NM-075-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2014-0075R1, dated April 24, 2014 (referred to after this as the Mandatory Continuing Airworthiness Information, or “the MCAI”), to correct an unsafe condition for certain ATR-GIE Avions de Transport Régional Model ATR42-200, -300, -320, and -500 airplanes; and ATR72-101, -201, -102, -202, -211, -212, and -212A airplanes. The MCAI states:

A significant number of fuel probes installed on ATR aeroplanes failed during production tests and several occurrences of fuel quantity indication malfunctions were recently reported on in-service aeroplanes.

The subsequent investigation, conducted on the failed parts, confirmed a loss of ground connection on the terminal block of the fuel probe, due to an incorrect application of wiring instructions in production during fuel probe manufacturing between June 2011 and August 2013. The investigation identified a batch of parts, suspected to be affected by this manufacturing defect. Some of these probes were delivered as spares, and operators may have installed these probes on their in-service aeroplanes.

In case an affected fuel probe is installed on each wing of an aeroplane, being not equipped with an independent fuel low level measurement system or an aeroplane operated in accordance with ETOPS [extended range twin operations] rules, the defected fuel probes could indicate a higher fuel quantity value than the real quantity of the on-board fuel.

This condition, if not detected and corrected, could lead to an undetected fuel starvation and consequent dual engine in-flight flame out.

For the reasons described above, this [EASA] AD requires the identification and replacement of the affected fuel probes.

This [EASA] AD is revised to correct typographical errors.

You may examine the MCAI in the AD docket on the Internet at http://www.regulations.gov by searching for and locating Docket No. FAA-2014-0568.

Relevant Service Information

Zodiac Aerospace Services Europe has issued Service Bulletin 766983-28-002, dated October 15, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

“Contacting the Manufacturer” Paragraph in This Proposed AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In an NPRM having Directorate Identifier 2012-NM-101-AD (78 FR 78285, December 26, 2013), we proposed to prevent the use of repairs that were not specifically developed to correct the unsafe condition, by requiring that the repair approval provided by the State of Design Authority or its delegated agent specifically refer to the FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

One commenter to the NPRM having Directorate Identifier 2012-NM-101-AD (78 FR 78285, December 26, 2013) stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this proposed AD to obtain corrective actions from a manufacturer, the actions must be accomplished using a method approved by the FAA, the European Aviation Safety Agency (EASA), or ATR-GIE Avions de Transport Régional's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this proposed AD.

Costs of Compliance

We estimate that this proposed AD affects 81 airplanes of U.S. registry.

We also estimate that it would take about 2 work-hours per product to comply with the basic requirements of this proposed AD. The average labor rate is $85 per work-hour. Required parts would cost about $0 per product. Based on these figures, we estimate the cost of this proposed AD on U.S. operators to be $13,770, or $170 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

ATR—GIE Avions de Transport Régional: Docket No. FAA-2014-0568; Directorate Identifier 2014-NM-075-AD.

(a) Comments Due Date

We must receive comments by September 29, 2014.

(b) Affected ADs

None.

(c) Applicability

This AD applies to the airplanes identified in paragraphs (c)(1), (c)(2), and (c)(3) of this AD.

(1) ATR—GIE Avions de Transport Régional Model ATR42-200, -300, -320, and -500 airplanes; and Model ATR72-101, -201, -102, -202, -211, -212, and -212A airplanes; certificated in any category; all manufacturer serial numbers qualified for extended range twin operations (ETOPS) with ATR Modification 04711.

(2) ATR—GIE Avions de Transport Régional Model ATR42-200, -300, -320, and -500 airplanes; certificated in any category; except as specified in paragraph (c)(2)(i) or (c)(2)(ii) of this AD.

(i) Airplanes modified with ATR Modification 04650.

(ii) Airplanes retrofitted as specified in ATR Service Bulletin ATR42-28-0033 or ATR42-28-0034, as applicable.

(3) ATR—GIE Avions de Transport Régional Model ATR72-101, -201, -102, -202, -211, -212, and -212A airplanes; certificated in any category; all manufacturer serial numbers; except as specified in paragraph (c)(3)(i) or (c)(3)(ii) of this AD.

(i) Airplanes modified with ATR Modification 04686.

(ii) Airplanes retrofitted as specified in ATR Service Bulletin ATR72-28-1013, ATR72-28-1022, or ATR72-28-1023, as applicable.

(d) Subject

Air Transport Association (ATA) of America Code 28, Fuel.

(e) Reason

This AD was prompted by reports of fuel quantity indication malfunctions caused by fuel probe failure. We are issuing this AD to detect and correct affected fuel probes, which could lead to undetected fuel starvation and consequent dual engine in-flight flame-out.

(f) Compliance

Comply with this AD within the compliance times specified, unless already done.

(g) Part Number (P/N) and Serial Number (S/N) Inspection

Within 5,000 flight hours or 24 months, whichever occurs first after the effective date of this AD: Inspect to determine if any fuel probe has any P/N and S/N identified in table 1 to paragraph (g) of this AD. A review of airplane maintenance records is acceptable in lieu of this inspection if the part number and serial number of the part can be conclusively determined from that review.

Table 1 to Paragraph (g) of This AD—Affected Fuel Probes
Airplane model | Part number | Serial number
ATR 42 | 766-046-2 | 1046 through 1083 inclusive.
ATR 42 | 766-047-2 | 1154 through 1214 inclusive.
ATR 42 | 766-048-2 | 1150 through 1197 inclusive.
ATR 42 | 768-055 | 1156 through 1227 inclusive.
ATR 42 | 798-038 | 1150 through 1238 inclusive.
ATR 72 | 766-793-1 | 1469 through 1826 inclusive.
ATR 72 | 766-795-2 | 1661 through 2093 inclusive.
ATR 72 | 766-796-2 | 1722 through 2152 inclusive.
ATR 72 | 766-797-2 | 1663 through 2051 inclusive.
ATR 72 | 766-983-1 | 2200 through 2652 inclusive.
ATR 72 | 768-100 | 1511 through 1876 inclusive.

(h) Replacement

If any fuel probe that has any part number and serial number specified in table 1 to paragraph (g) of this AD is found: Within 5,000 flight hours or 24 months, whichever occurs first after the effective date of this AD, replace the fuel probe with a serviceable fuel probe, using a method approved by the Manager, International Branch, ANM-116, Transport Airplane Directorate, FAA, or the European Aviation Safety Agency (EASA); or ATR-GIE Avions de Transport Régional's EASA Design Organization Approval (DOA). If approved by the DOA, the approval must include the DOA-authorized signature.

Note 1 to paragraph (h) of this AD: Guidance on accomplishing the replacement can be found in ATR-42 Aircraft Maintenance Manual Job Instruction Card 28-42-72, RAI 10000-001, and ATR-72 Aircraft Maintenance Manual Job Instruction Card 28-42-72, RAI 10000-002.

(i) Definition of Serviceable Fuel Probe

For the purposes of this AD, the definition of a serviceable fuel probe is specified in paragraph (i)(1) or (i)(2) of this AD.

(1) The fuel probe is not listed in table 1 to paragraph (g) of this AD.

(2) The fuel probe is listed in table 1 to paragraph (g) of this AD, but has control tag “C” marked on the part identification plate, as specified in Zodiac Aerospace Services Europe Service Bulletin 766983-28-002, dated October 15, 2013.

(j) Parts Installation Limitations

As of the effective date of this AD, no person may install, on any airplane, a fuel probe having any part number and serial number identified in table 1 to paragraph (g) of this AD, unless control tag “C” is marked on the part identification plate, as specified in Zodiac Aerospace Services Europe Service Bulletin 766983-28-002, dated October 15, 2013.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or ATR-GIE Avions de Transport Régional's EASA Design Organization Approval (DOA). If approved by the DOA, the approval must include the DOA-authorized signature.

(l) Related Information

(1) Refer to Mandatory Continuing Airworthiness Information (MCAI) EASA Airworthiness Directive 2014-0075R1, dated April 24, 2014, for related information. This MCAI may be found in the AD docket on the Internet at http://www.regulations.gov by searching for and locating Docket No. FAA-2014-0568.

(2) For service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this service information at the FAA, Transport Airplane Directorate, 1601 Lind Avenue SW., Renton, WA. For information on the availability of this material at the FAA, call 425-227-1221.

Issued in Renton, Washington, on August 6, 2014.
Victor Wicklund,
Acting Manager, Transport Airplane Directorate, Aircraft Certification Service.

[FR Doc. 2014-19374 Filed 8-14-14; 8:45 am]

BILLING CODE 4910-13-P